PRIVACY AND CIVIL LIBERTIES OVERSIGHT BOARD

[Notice-PCLOB-2015-05; Docket No. 2015-0001; Seq. No. 5]

Notice of a Closed Meeting

Time and Date: Monday, November 9, 2015 from 9:30 a.m. through 12:30 p.m. (Eastern Standard Time).

Place: 2100 K Street NW., Washington, DC 20427.

Status: Closed. Pursuant to 5 U.S.C. 552b(c)(1) and 6 CFR 1003.5(a), it has been determined that this meeting will be closed to the public as the Board will be reviewing and discussing matters properly classified in accordance with Executive Order 13526.

Matters To Be Considered: On April 8, 2015, during an open Sunshine Act meeting, the Board voted to select certain counterterrorism-related activities governed by Executive Order 12333, and conduct focused, in-depth examinations of those activities. The November 9, 2015 closed meeting will discuss these in-depth examinations.

Contact Person for More Information: Ms. Sharon Bradford Franklin, Executive Director, 202-331-1986.

Dated: November 2, 2015.
Eric Broxmeyer,
General Counsel, Privacy and Civil Liberties Oversight Board.

[FR Doc. 2015-28283 Filed 11-4-15; 8:45 am]

BILLING CODE 6820-B3-P